DEPARTMENT OF THE INTERIOR

Bureau of Land Management

[LLUTG01100-12-L13110000-EJ0000]

Notice of Availability of a Final Environmental Impact Statement for the Gasco Energy Inc. Uinta Basin Natural Gas Development Project, Uintah County, UT

AGENCY: Bureau of Land Management, Interior.

ACTION: Notice of Availability.

SUMMARY: Under the National Environmental Policy Act of 1969 (NEPA), Federal Land Policy and Management Act of 1976, and associated regulations, the Bureau of Land Management (BLM) has prepared a Final Environmental Impact Statement (EIS) that evaluates, analyzes, and discloses to the public anticipated impacts of the Gasco Energy Inc. proposal to develop natural gas leases in Uintah and Duchesne Counties, Utah. This notice announces a 30-day availability period prior to preparation of a Record of Decision (ROD).

DATES: A ROD may be issued 30 calendar days following the date on which the Environmental Protection Agency publishes its Notice of Availability of the Final EIS in the Federal Register.

ADDRESSES: Copies of the Final EIS have been sent to affected Federal, state, and local government agencies and other stakeholders. Copies of the Final EIS are available for public inspection at the BLM Vernal Field Office, 170 South 500 East, Vernal, Utah, and at the following Web site: http://www.blm.gov/ut/st/en/fo/vernal/planning/nepa_.html.

FOR FURTHER INFORMATION CONTACT: Stephanie Howard, Environmental Coordinator; 435-781-4400; 170 South 500 East, Vernal, Utah, 84078; email: BLM_UT_Vernal_Comments@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM prepared the Final EIS in response to Gasco's proposal to explore and develop their Federal oil and gas leases. The Final EIS analysis allows the BLM to choose a course of action that fulfills its responsibilities under Federal laws when future plans and applications related to this proposal or in the project area are received. The Gasco Project Area encompasses 206,826 acres in Uintah and Duchesne Counties within the following townships.

Salt Lake Meridian, Utah

T. 9 S., R. 15-19 E.

T. 10 S., R. 14-19 E.

T. 11 S., R. 15-18 E.

Under the Proposed Action (Alternative A), Gasco Energy Inc. would develop their existing oil and gas leases by drilling 1,491 wells from the same number of well pads over a period of 15 years, and by constructing 143 acres of evaporative ponds to dispose of produced water. The Proposed Action would result in approximately 7,584 acres of surface disturbance (about 4 percent of the total project area).

In response to the Proposed Action (Alternative A), the BLM published a Notice of Intent to Prepare an EIS in the Federal Register on February 10, 2006 [71 FR 7059]. The BLM used the resulting scoping comments to help identify impacts expected as a result of the proposed action, and to develop Alternatives B through E.

The BLM held a 90-day public comment period for the Draft EIS from October 1, 2010 through December 30, 2010, as announced through the Federal Register.Public comments focused on impacts to cultural resources within Nine Mile Canyon, the Green River and associated recreation activities, 100-year floodplains and endangered fish critical habitat, water quality (surface and ground), air quality, lands with wilderness characteristics, and valid existing lease rights. No single alternative in the Draft EIS (Alternatives A through E) adequately addressed the concerns raised, so the BLM, in close coordination with the Fish and Wildlife Service (FWS) and Environmental Protection Agency (EPA), used attributes of all five alternatives to create a new alternative, Alternative F. All aspects of Alternative F are contained entirely within the range of alternatives analyzed in the Draft EIS, so a determination was made that preparation of a Supplement to the Draft EIS was not necessary.

Under Alternative F, the Agency Preferred Alternative, up to 1,298 new gas wells would be drilled from 575 well pads over a period of 15 years, resulting in approximately 3,604 acres of disturbance (about 2 percent of the total project area). Water evaporation facilities were reduced to 78 acres. This is adequate for the first 5 years of the project while other disposal options are developed and implemented. The BLM also incorporated the measures to minimize impacts to resources, while allowing for the development of valid existing rights. No surface disturbance would occur below the rim of Nine Mile Canyon, within one-half mile of the Green River, in 100-year floodplains, or endangered fish critical habitat. A Programmatic Agreement (PA) was prepared in accordance with Section 106 of the National Historic Preservation Act to address potential cultural resource impacts. A water monitoring plan was developed to address water quality impacts. Extensive applicant-committed measures, including an adaptive management strategy, were developed or refined to minimize air quality impacts. Directional drilling was also incorporated to the maximum extent possible.

The BLM prepared the Final EIS in coordination with the FWS and EPA as described above, and in coordination with the Bureau of Indian Affairs and Uintah and Duchesne Counties, who participated as cooperating agencies during the EIS process. The Final EIS tracks the changes made between the Draft EIS and Final EIS, and includes responses to all substantive comments received during the Draft EIS public comment period.

This Final EIS is not a decision document. Following conclusion of the 30-day availability period, a ROD will be signed to disclose the BLM's final decision and any project Conditions of Approval. Availability of the ROD will be announced through local media, the Vernal BLM Web site, and Utah BLM's Environmental Notification Bulletin Board.

Juan Palma,
State Director.

[FR Doc. 2012-6324 Filed 3-15-12; 8:45 am]

BILLING CODE 4310-DQ-P